DEPARTMENT OF AGRICULTURE

Forest Service

White River National Forest, Colorado, Oil and Gas Leasing Environmental Impact Statement

AGENCY: Forest Service, USDA.

ACTION: Notice of intent to prepare an environmental impact statement.

SUMMARY: The White River National Forest (WRNF) is initiating the preparation of an environmental impact statement (EIS). The EIS will disclose the potential effects of a proposal to revise the existing WRNF 1993 Oil and Gas Leasing and Final EIS and Record of Decision. The proposed revision includes the following: Changing what lands will be available for oil and gas leasing; changing or adding stipulations to be attached to oil and gas leases for the protection of other resources; and amending the WRNF Land and Resource Management Plan 2002 Revision (Forest Plan) to incorporate the revised oil and gas leasing decision. The EIS will document changed conditions and new information since the WRNF 1993 Oil and Gas Leasing Final EIS and Record of Decision and incorporate that information into the analysis of potential effects of leasing on other resources. Changes in conditions and information since the 1993 leasing EIS and decision include the completion of the WRNF Forest Plan; new and improved oil and gas drilling, completion, and production technology; an increase in demand and public need for oil and natural gas; the increasing rate of oil and gas development adjacent to and on the WRNF, and a projection of substantial increase in oil and gas development on the WRNF.

The EIS will address current applicable guidance, policy, regulation, and law pertinent to roadless areas, land ownership, and threatened, endangered, and sensitive species. The scope of the analysis is forest-wide.

DATES: Comments concerning the scope of the analysis must be received by July 30, 2010. The draft environmental impact statement is expected January 2011 and the final environmental impact statement is expected April 2011.

The public open house date is:

1. Wednesday, 14 July 2010, 2:30 p.m. to 8 p.m., Silt, CO.

ADDRESSES: Send written comments to: White River National Forest Oil and Gas Scoping, P.O. Box 1919, Sacramento, CA 95812; Submit electronic comments and other data to WRNFoilandgascomments@fscomments.org. See SUPPLEMENTARY INFORMATION for other information about electronic and fax filing.

The public meeting location is the following:

1. Silt, CO—Bureau of Land Management Colorado River Valley Field Office, Silt Conference Room, 2300 River Frontage Road, Silt, CO 81652.

For further information on this project please visit http://www.fs.fed.us/r2/whiteriver/projects/.

For additional information, mail correspondence to David Francomb, Leasable Minerals Program Manager, White River National Forest, 900 Grand Ave., P.O. Box 948, Glenwood Springs, Colorado 81602.

FOR FURTHER INFORMATION CONTACT: David Francomb, 970.945.3293.

SUPPLEMENTARY INFORMATION:

Need for Action

The White River National Forest (WRNF) issued its current oil and gas leasing availability decision in 1993 (Oil and Gas Leasing Final Environmental Impact Statement and Record of Decision). Since 1993, information and circumstances considered for that decision have changed, including the WRNF issuance of a revised Land and Resource Management Plan (LRMP), technological advances in oil and gas exploration and development that expand development potential of previously uneconomic resources, and increased level of projected oil and gas development activities on the WRNF. Consequently, the Forest Supervisor of the WRNF has identified a need to: (1) Revise the 1993 Oil and Gas Leasing Final Environmental Impact Statement and Record of Decision as necessary to address information and circumstances that are new and different from those analyzed for the existing (1993) oil and gas leasing decision; (2) Identify what NFS lands administered by the White River National Forest will continue to be available for oil and gas leasing and what lease stipulations should apply to those lands for the protection of other resources; (3) Amend the WRNF Land and Resource Management Plan—2002 Revision to ensure consistency with the oil and gas leasing analysis and decision; and (4) Produce an Environmental Impact Statement (EIS) that will support the BLM's independent decision to include NFS lands administered by the WRNF in future competitive oil and gas lease sales.

Purpose for Action

The purpose of the proposed action is to: (1) Ensure oil and gas leasing availability and lease stipulations are consistent with the WRNF Land and Resource Management Plan; (2) Ensure oil and gas leasing availability and lease stipulations are consistent with current applicable laws and regulations; (3) Enable the Forest Service and BLM to respond to Expressions of Interest for oil and gas leases representing the public's demand for energy, consistent with statutory and regulatory direction; (4) Fulfill the federal government's policy to “foster and encourage private enterprise in the development of economically sound and stable industries, and in the orderly and economic development of domestic resources to help assure satisfaction of industrial, security, and environmental needs” (Mining and Minerals Policy Act of 1970) while continuing to sustain the land's productivity for other uses and capability to support biodiversity goals (Forest Service Minerals Program Policy); and (5) Enable the BLM to fully exercise its discretionary authority to offer and issue leases on NFS lands administered by the WRNF.

Proposed Action

The Forest Service proposes to revise the existing 1993 Oil and Gas Leasing availability decision for the White River National Forest (WRNF). The Proposed Action makes revisions to the availability of NFS lands administered by the WRNF for oil and gas leasing and to the stipulations on lands available for lease in the Analysis Area. Lease stipulations are proposed only on lands identified as available for lease.

The Proposed Action includes the following: (1) Addressing information and circumstances that are new and different from those analyzed for the 1993 leasing decision; (2) Changing the 1993 leasing decision to identify 266,599 acres as administratively available for oil and gas leasing; (3) Attaching lease stipulations on future leases, where needed on lands identified as administratively available for leasing, for the purpose of protecting other resources including:—(a) No Surface Occupancy (NSO) stipulations for certain—Wallace Creek Wildlife Seclusion Area; raptor species breeding territories; threatened, endangered, proposed or candidate species populations and habitats; critical bighorn sheep habitats; Colorado River cutthroat and greenback trout habitat; Battlement Reservoir watershed; wetlands and fens; water influence zones; municipal supply watersheds; areas with known high and very high geologic instability and/or slopes > 50%; authorized sites and facilities; summer non-motorized recreation and special interest areas; very high and high scenic integrity objective areas; Research Natural Areas; and inventoried roadless areas; (b) Controlled Surface Use (CSU) stipulations for certain—big game production areas, summer concentration areas, and migration corridors; big game winter ranges; road density in watersheds with Colorado River cutthroat trout conservation populations; ground water resources; known and/or potential habitats for sensitive species; areas with potential for geologic instability and/or slopes 30% to 50%; areas with erodible soils; authorized sites and facilities; designated winter groomed routes under special use permit; moderate scenic integrity objective areas and scenic byways; high concern level travel routes; communication sites; and plant species of local concern; (c) Timing Limitations (TL) for certain—big game winter and summer concentration ranges; and raptor species breeding territories; (4) Changing the 1993 leasing decision to identify 1,159,796 acres as closed for oil and gas leasing through management direction; (5) Changing the 1993 leasing decision to identify 857,512 acres as legally closed for oil and gas leasing; (6) Amending the 2002 WRNF Forest Plan to incorporate the new leasing decision.

The proposed changes to the existing 1993 leasing decision brought forward in the Proposed Action will not affect the terms of existing leases. Existing leases will remain in effect, with their existing terms, until they are terminated, relinquished, or cancelled. Proposed land availability and lease stipulation changes will affect only leases issued after the decision is implemented. The proposed changes will apply to new leases on lands that are currently leased after existing leases have been terminated, relinquished, or cancelled, and those lands are subsequently nominated for lease.

Possible Alternatives

(1) No New Leasing—Under this alternative, no NFS lands administered by the WRNF would be available in the future for oil and gas leasing. Operations on existing leases would continue under applicable lease terms, statutory and regulatory direction, and Forest Plan direction. Existing federal oil and gas leases on the WRNF that are not extended by production would terminate at the conclusion of their primary term, and those lands would not be available for further leasing. Implementation of this alternative would require a Forest Plan amendment to identify lands as closed to oil and gas leasing.

(2) No Action (Current Management)—This alternative would continue oil and gas leasing on the WRNF as directed by the RODs for the White River National Forest Oil and Gas Leasing EIS (May 26, 1993) and the Land and Resource Management Plan 2002 Revision (April 2, 2002).

Lead and Cooperating Agencies

The Forest Service is the lead agency. As the agency responsible for offering, selling, and issuing leases, the BLM will participate as a cooperating agency under a Memorandum of Understanding (MOU). Additionally, the United States Fish and Wildlife Service and the Colorado Department of Natural Resources will participate as cooperating agencies, under separate MOUs, to provide resource specific expertise when needed.

Responsible Official

The Forest Service responsible official is Scott Fitzwilliams, Forest Supervisor, White River National Forest, 900 Grand Avenue, P.O. Box 948, Glenwood Springs, Colorado 81602.

The BLM responsible official responsible is Jamie, C. Connell, District Manager, Northwest District Office, 2815 H Road, Grand Junction, Colorado 81506.

Nature of Decision To Be Made

The Forest Service will determine whether and how the current oil and gas leasing decision, as it relates to land availability and lease stipulations, should be changed based on current information and analysis. The Forest Supervisor will decide which lands administered by the WRNF will be administratively available for oil and gas leasing, which lands will be closed for oil and gas leasing through management direction or legal reasons, and what lease stipulations will be applied to future oil and gas leases for the protection of other resources [36 CFR 228.102(c)]. Subsequent to the Forest Supervisor's decision, the Regional Forester will authorize the BLM to offer specific lands for lease. When lands are nominated for leasing, the Forest Service will (1) Verify that leasing the specific lands has been adequately addressed in a NEPA document and is consistent with the Forest Plan, and that no significant new information or circumstances would require further environmental analysis; (2) ensure that conditions of surface occupancy are properly included as stipulations in resulting leases; and (3) determine that operations and development could be allowed somewhere on each proposed lease, except where stipulations will prohibit all surface occupancy [36 CFR 228.102(e)]. The BLM is responsible for offering, selling, and issuing oil and gas leases on NFS lands under the Mineral Leasing Act of 1920, as amended, and Federal Regulations at 43 CFR 3101.7. The BLM State Director must decide whether to offer for lease specific lands authorized for leasing by the WRNF, and must include Forest Service stipulations on any leases offered on NFS lands.

Scoping Process

The first formal opportunity to comment on the revised oil and gas leasing availability and stipulations proposal is during the scoping process (40 CFR 1501.7), which begins with the issuance of this Notice of Intent. The Forest Service requests comments on the nature and scope of the environmental, social, and economic issues, and possible alternatives related to oil and gas leasing on NFS lands administered by the WRNF. The Forest Service will work with tribal governments to address issues that would significantly or uniquely affect them.

One open house meeting is planned. The time the meeting will be held and the address of the meeting location are noted above under DATES and ADDRESSES. The meeting location at the Bureau of Land Management Silt Office can be reached from the Silt exit (#97) on Interstate 70. Exit onto 9th Street and proceed over the interstate headed south to the t-intersection. Take a left on River Frontage Road headed east for about 1 mile to the BLM Silt Office on the right, after the Holiday Inn Express Hotel. Further information regarding this meeting will be posted on the WRNF Web site at http://www.fs.fed.us/r2/whiteriver/projects as it becomes available.

Comment Requested

This Notice of Intent initiates the scoping process that guides the development of the WRNF Oil and Gas Leasing Revision. Through the 1993 Oil and Gas Leasing EIS and decision and Forest Plan efforts, the WRNF has an understanding of the broad range of perspectives on the resource issues and social values attributed to resource activities on the WRNF. Consequently, site-specific comments or concerns are the most important types of information needed for this EIS.

Send written comments to the address noted above under ADDRESSES. Send electronic comments to: WRNFoilandgascomments@fscomments.org with the subject clearly titled “WRNF Oil and Gas Leasing EIS”. Comments must include the full name and physical mailing address of the commenter, and should indicate whether the commenter would like to be informed of the availability of the Oil and Gas Leasing EIS. Submit faxed comments to 916.456.6724.

Early Notice of Importance of Public Participation in Subsequent Environmental Review

A draft environmental impact statement will be prepared for comment. The comment period on the DEIS is expected to be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the scoping comment period, 1 March 2010, so that substantive comments and objections are made available to the Forest Service at a time when it can meaningfully consider them and respond to them in the final environmental impact statement. To assist the Forest Service in identifying and considering issues and concerns on the proposed action, comments should be as specific as possible.

Comments received, including the names and addresses of those who comment, will be considered part of the public record on this proposal and will be available for public inspection.

Authority: 40 CFR 1501.7 and 1508.22; Forest Service Handbook 1909.15, Section 21.

Dated: June 24, 2010.
Scott Fitzwilliams,
Forest Supervisor.

[FR Doc. 2010-15871 Filed 6-29-10; 8:45 am]

BILLING CODE 3410-11-P